DEPARTMENT OF ENERGY

Federal Energy Regulatory Commission

Combined Notice of Filings

Take notice that the Commission has received the following Natural Gas Pipeline Rate and Refund Report filings:

Filings Instituting Proceedings

Docket Numbers: RP18-1115-003.

Applicants: Saltville Gas Storage Company L.L.C.

Description: Compliance filing Saltville RP18-1115 Compliance Filing—Fuel Reimbursement to be effective 7/1/2019.

Filed Date: 6/10/19.

Accession Number: 20190610-5073.

Comments Due: 5 p.m. ET 6/24/19.

Docket Numbers: RP19-1311-000.

Applicants: Granite State Gas Transmission, Inc.

Description: Compliance filing internet Compliance Filing to be effective 8/1/2019.

Filed Date: 6/11/19.

Accession Number: 20190611-5124.

Comments Due: 5 p.m. ET 6/24/19.

Docket Numbers: RP19-1312-000.

Applicants: Iroquois Gas Transmission System, L.P.

Description: Compliance filing 061219 Compliance Filing Implementing Approved Settlement Rates to be effective 7/1/2019.

Filed Date: 6/12/19.

Accession Number: 20190612-5020.

Comments Due: 5 p.m. ET 6/24/19.

Docket Numbers: RP19-1313-000.

Applicants: Texas Eastern Transmission, LP.

Description: § 4(d) Rate Filing: Negotiated Rates Cleanup Filing June 2019—various South Jersey to be effective 7/12/2019.

Filed Date: 6/12/19.

Accession Number: 20190612-5026.

Comments Due: 5 p.m. ET 6/24/19.

Docket Numbers: RP19-343-005.

Applicants: Texas Eastern Transmission, LP.

Description: Compliance filing TETLP Compliance Filing—RP19-343-000 to be effective 1/1/2019.

Filed Date: 6/12/19.

Accession Number: 20190612-5102.

Comments Due: 5 p.m. ET 6/24/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2019.
Nathaniel J. Davis, Sr.,
Deputy Secretary.

[FR Doc. 2019-12968 Filed 6-18-19; 8:45 am]

BILLING CODE 6717-01-P